ENVIRONMENTAL PROTECTION AGENCY

40 CFR Part 60

[NC-AT-2000-01; FRL-6728-8]

New Stationary Sources; Supplemental Delegation of Authority to the State of North Carolina

AGENCY: Environmental Protection Agency (EPA).

ACTION: Delegation of Authority.

SUMMARY: The State of North Carolina has requested that EPA delegate authority for implementation and enforcement of existing New Source Performance Standards (NSPS) which have been previously adopted by the State agency but has remained undelegated by EPA, and to approve the mechanism for delegation (automatic) of future NSPS. The purpose of the agency requests for approval of their delegation mechanism is to streamline the existing administrative procedures by eliminating unnecessary steps involved in taking delegation of federal NSPS regulations. With the new NSPS delegation mechanism in place, once a new or revised NSPS is promulgated by EPA, delegation of authority from EPA to the North Carolina Department of Environment, Health, and Natural Resources (DEHNR) will become effective on the date the NSPS is promulgated. No further State requests for delegation will be necessary. Likewise, no further Federal Register notices will be published. The EPA's review of each of the agencies' pertinent laws, rules, and regulations indicate that adequate and effective procedures are in place for the implementation and enforcement of these Federal standards. This notice was written to inform the public of delegations that were made to the above mentioned agencies for which a Federal Register notice was not previously written and to inform the public of the agencies' new mechanism for delegation of future NSPS.

EFFECTIVE DATE: The effective date is July 28, 2000.

ADDRESSES: Copies of the request for delegation of authority and EPA's letter of delegation are available for public inspection during normal business hours at the following locations:

Environmental Protection Agency, Region 4, Air & Radiation Technology Branch, 61 Forsyth Street, SW., Atlanta, Georgia 30303

North Carolina Department of Environment, Health, & Natural Resources, P.O. Box 29580, Raleigh, North Carolina 27626-0580

Effective immediately, all requests, applications, reports and other correspondence required pursuant to the delegated standards should not be submitted to the Region 4 office, but should instead be submitted to the following address: North Carolina Department of Environment, Health, & Natural Resources, P.O. Box 29580, Raleigh, North Carolina 27626-0580.

FOR FURTHER INFORMATION CONTACT: Ms. Katy Forney, Air & Radiation Technology Branch, Environmental Protection Agency, Region 4, 61 Forsyth St. SW, Atlanta, Georgia 30303, 404-562-9130.

SUPPLEMENTARY INFORMATION: Section 301, in conjunction with Sections 110 and 111(c)(1) of the Clean Air Act as amended November 15, 1990, authorizes EPA to delegate authority to implement and enforce the standards set out in 40 CFR Part 60, New Source Performance Standards (NSPS).

On November 24, 1976, the EPA initially delegated the authority for implementation and enforcement of the NSPS program to the State of North Carolina. Currently, no existing NSPS regulations are awaiting delegation for the State of North Carolina. This agency has subsequently requested a delegation of authority for implementation and enforcement of future NSPS categories codified in 40 CFR part 60.

All current NSPS categories are delegated with the exception of the following sections within those subparts that may not be delegated. Future NSPS regulations will contain a list of sections that will not be delegated for that subpart.

1. Subpart A—§ 60.8(b) (2) and (3), § 60.11(e) (7) and (8), § 60.13 (g), (i) and (j)(2)

2. Subpart B—§ 60.22, § 60.27, and § 60.29

3. Subpart Da—§ 60.45a

4. Subpart Db—§ 60.44b(f), § 60.44b(g), § 60.49b(a)(4)

5. Subpart Dc—§ 60.48c(a)(4)

6. Subpart Ec—§ 60.56(c)(i)

7. Subpart J—§ 60.105(a)(13)(iii), § 60.106(i)(12)

8. Subpart Ka—§ 60.114a

9. Subpart Kb—§ 60.111b(f)(4), § 60.114b, § 60.116b(e)(3) (iii) and (iv), § 60.116b(f)(2)(iii)

10. Subpart O—§ 60.153(e)

11. Subpart EE—§ 60.316(d)

12. Subpart GG—§ 60.334(b)(2), § 60.335(f)(1)

13. Subpart RR—§ 60.446(c)

14. Subpart SS—§ 60.456(d)

15. Subpart TT—§ 60.466(d)

16. Subpart UU—§ 60.474(g)

17. Subpart VV—§ 60.482-1(c)(2) and § 60.484

18. Subpart WW—§ 60.496(c)

19. Subpart XX—§ 60.502(e)(6)

20. Subpart AAA—§ 60.531, § 60.533, § 60.534, § 60.535, § 60.536(i)(2), § 60.537, § 60.538(e), § 60.539

21. Subpart BBB—§ 60.543(c)(2)(ii)(B)

22. Subpart DDD—§ 60.562-2(c)

23. Subpart III—§ 60.613(e)

24. Subpart NNN—§ 60.663(e)

25. Subpart RRR—§ 60.703(e)

26. Subpart SSS—§ 60.711(a)(16), § 60.713(b)(1)(i), § 60.713(b)(1)(ii), § 60.713(b)(5)(i), § 60.713(d), § 60.715(a), § 60.716

27. Subpart TTT—§ 60.723(b)(1), § 60.723(b)(2)(i)(C), § 60.723(b)(2)(iv), § 60.724(e), § 60.725(b)

28. Subpart VVV—§ 60.743(a)(3)(v)(A) and (B), § 60.743(e), § 60.745(a), § 60.746

29. Subpart WWW— § 60.754(a)(5)

After a thorough review of the request, the Regional Administrator determined that such a delegation was appropriate for all source categories. All sources subject to the requirements of 40 CFR part 60 will now be under the jurisdiction of the appropriate above mentioned agency.

Since review of the pertinent laws, rules, and regulations for the State agency has shown them to be adequate for implementation and enforcement of existing, previously adopted, undelegated NSPS and future NSPS, EPA hereby notifies the public that it has delegated the authority for existing, previously adopted and undelegated NSPS as well as the mechanism for delegation (automatic) of future NSPS source categories upon publication of this Federal Register notice.

The Office of Management and Budget (OMB) has exempted this regulatory action from Executive Order 12866, entitled “Regulatory Planning and Review.”

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated previously, EPA has made such a good cause finding, including the reasons therefor, and established an effective date of July 28, 2000. EPA will submit a report containing this rule and other required information to the U.S. Senate, the U.S. House of Representatives, and the Comptroller General of the United States prior to publication of the rule in the Federal Register. This action is not a “major rule” as defined by 5 U.S.C. 804(2).

Authority: This notice is issued under the authority of sections 101, 110, 111, 112 and 301 of the Clean Air Act, as Amended (42 U.S.C. 7401, 7410, 7411, 7412 and 7601).

Dated: June 19, 2000.
A. Stanley Meiburg,
Acting Regional Administrator, Region 4.

[FR Doc. 00-19112 Filed 7-27-00; 8:45 am]

BILLING CODE 6560-50-U